DEPARTMENT OF HEALTH AND HUMAN SERVICES

National Institutes of Health

National Heart, Lung, and Blood Institute; Amended Notice of Meeting

Notice is hereby given of a change in the meeting of the Heart, Lung, and Blood Program Project Review Committee, June 17, 2016, 08:00 a.m. to June 17, 2016, 01:00 p.m., Hyatt Regency Bethesda, One Bethesda Metro Center, 7400 Wisconsin Avenue, Bethesda, MD, 20814 which was published in the Federal Register on May 24, 2016, 81FR32763-32764.

The meeting notice is amended to change the location of the meeting from The Hyatt Regency Bethesda to The Bethesda Marriott Suites, 6711 Democracy Boulevard, Bethesda, MD, 20817. The meeting is closed to the public.

Dated: May 24, 2016.
Michelle Trout,
Program Analyst, Office of Federal Advisory Committee Policy.

[FR Doc. 2016-12645 Filed 5-27-16; 8:45 am]

BILLING CODE 4140-01-P